DEPARTMENT OF COMMERCE

National Oceanic and Atmospheric Administration

[I.D. 051706E]

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold its 133rd meeting to consider and take actions on fishery management issues in the Western Pacific Region.

DATES: The 133rd Council meeting and public hearings will be held on June 12 - 15, 2006. For specific times and the agenda, see SUPPLEMENTARY INFORMATION.

ADDRESSES: The 133rd Council meeting and public hearings will be held at the Utulei Convention Center, Utulei, American Samoa; telephone: (684) 633-5155.

FOR FURTHER INFORMATION CONTACT: Kitty M. Simonds, Executive Director; telephone: (808) 522-8220.

SUPPLEMENTARY INFORMATION: In addition to the agenda items listed here, the Council will hear recommendations from other Council advisory groups. Public comment periods will be provided throughout the agenda. The order in which agenda items are addressed may change. The Council will meet as late as necessary to complete scheduled business.

Schedule and Agenda for Council Standing Committee Meetings

Monday, June 12, 2006

Standing Committee

1. 8 a.m. - 9:30 a.m.-Enforcement/Vessel Monitoring System Standing Committee

2. 9:30 a.m. - 11:30 a.m.-Pelagics &International Standing Commmittee

3. 12:30 p.m. - 2 p.m.-Bottomfish Standing Committee

4. 2 p.m. - 4 p.m.-Ecosystems & Habitat Standing Committee

5. 4 p.m. - 6 p.m.-Program Planning, Executive, and Budget Standing Committee

The agenda during the full Council meeting will include the items listed here.

Schedule and Agenda for Council Meeting

8:30 a.m. - 5 p.m., Tuesday, June 13, 2006

1. Samoan Opening

2. Greetings from the Governor

3. Presentation to American Samoa Poster Winners

4. Introductions

5. Approval of Agenda

6. Approval of 131st and 132nd Meeting Minutes

7. Island Agency Administration, Program and Enforcement Reports

A. American Samoa

B. Guam

C. Hawaii

D. Commonwealth of the Northern Marianas Islands

8. Agency Reports

A. National Marine Fisheries Service

1. Pacific Islands Fisheries Science Center

2. Pacific Islands Regional Office

B. United States Fish and Wildlife Service (USFWS)

C. NOAA General Counsel Report

D. Department of State

E. NOAA Sanctuary Program Update

1. Fagatele Bay National Marine Sanctuary

2. Proposed American Samoa Marine Laboratory

9. American Samoa Advisory Panel Report

10. Enforcement/vessel monitoring systems

A. United States Coast Guard Report

B. National Marine Fisheries Service Office for Law Enforcement Report

C. Status of Violations

D. Standing Committee Recommendations

Guest Speaker

11. Fishery Rights of Indigenous People

A. American Samoa Village-based Marine Protected Areas Program

B. Ahupuaa Conference Planning

C. Update on Marine Conservation Plans

D. Status of Community Demonstration Project Program and Community Development Program

8:30 a.m. - 5 p.m., Wednesday, June 14, 2006

12. Pelagic and International Fishery Issues

A. Local Small-Boat Fisheries

1. Commercial Fisheries

2. Recreational Fisheries

B. Small Boat Longline Area Closure

C. Bigeye and Yellowfin Overfishing Measures (ACTION ITEM)

D. Options for Swordfish Seasonal Closure (ACTION ITEM)

E. American Samoa Tuna Cannery Issues

F. American Samoa Longline Limited Entry Update

G. American Samoa & Hawaii Longline Reports

H. Bycatch

1. Shark Bycatch in Longline Fisheries

2. Side-setting to Avoid Seabirds

I. International Fisheries

1. International Scientific Committee

2. Secretariat of the Pacific Community Heads of Fisheries Meeting

3. Inter-American Tropical Tuna Commission Annual Meeting

4. Western and Central Pacific Fishery Commission Scientific Committee Meeting

5. Council South Pacific Albacore Workshop

J. Recreational Fisheries Data Task Force Report

K. Plan Team Recommendations

L. Scientific and Statistical Committee Recommendations

M. Standing Committee Recommendations

N. Public Hearing

13. Protected Species Issues

A. Local Protected Species Programs

B. Native Observer Program Report

C. Scientific and Statistical Committee Recommendations

8:30 a.m. - 5 p.m., Thursday, June 15, 2006

14. Bottomfish and Seamount Groundfish Issues

A. American Samoa Bottomfish Fishery Review

B. Report on Hawaii Monitoring and Research Plan

C. Update on Bottomfish Stock Assessment

D. Plan Team Recommendations

E. Scientific and Statistical Committee Recommendations

F. Standing Committee Recommendations

15. Ecosystems and Habitat Issues

A. American Samoa Coral Reef Fisheries Report

B. American Samoa Coral Reef Conservation Grants

C. American Samoa Rapid Assessment Monitoring Program

D. Northwestern Hawaiian Islands Fishery Regulations (ACTION ITEM)

E. Update on Fishery Ecosystem Plans and Projects

F. Plan Team Recommendations

G. Scientific and Statistical Committee Recommendations

H. Standing Committee Recommendations

I. Public Hearing

16. Program Planning

A. Update on Legislation and Magnuson-Stevens Fishery Conservation and Management Act Reauthorization

B. Update on Fishery Management Actions

C. Education and Outreach Report

D. Update on Disaster Relief

1. 2003 Guam and Commonwealth of the Northern Marianas Islands Disaster Relief Requests

2. Update on Hawaii Disaster Relief Program

E. Standing Committee Recommendations

17. Administrative Matters and Budget

A. Financial Reports

B. Administrative Reports

C. Meetings and Workshops

D. Council Family Changes

E. Standing Committee Recommendations

18. Other Business

A. Next Meeting

BACKGROUND INFORMATION:

1. Bigeye and Yellowfin Tuna Overfishing Measures(ACTION ITEM)

In response to the identification of overfishing by the Secretary of Commerce, at its 126th meeting held March 14-17, 2005 in Honolulu the Council reviewed a background document on Pacific bigeye fisheries, listened to public comments and took initial action to direct its staff to continue its development of Amendment 14 to the Pelagics Fishery Management Plan (FMP). This amendment contains comprehensive background information and analyses as well as recommendations for international management and a range of alternatives for the management of domestic fisheries. Following extensive review by the Council's Pelagics Plan Team, Science and Statistical Committee and Advisory Panels, as well as public comment solicited at meetings through out Hawaii, the Council took final action in June 2005 to recommend a suite of non-regulatory measures for the international management of fisheries which harvest bigeye tuna. The Council also reviewed and recommended a range of regulatory and non-regulatory measures for fisheries managed under the Pelagics FMP.

Subsequently, in August 2005, the Scientific Committee of the Western and Central Pacific Fishery Commission reviewed stock assessments for tuna species and found that yellowfin was likely being subjected to overfishing. Consequently, at its 129th Council meeting, the Council recommended applying to fishing for yellowfin tuna the same management measures recommended by the Council for bigeye tuna. Reviews received from NMFS Pacific Islands Regional Office and the NOAA Office of General Counsel on these actions have now indicated that the Council must address the following three outstanding issues:

1. The amendment objectives need to be quantified where possible.

2. The recommendations need to be grouped as alternatives.

3. A recommendation regarding the management of purse seine vessel targeting of bigeye tuna in the Eastern Pacific Ocean needs to be included.

The Council will consider and take action on these issues at its 133rd meeting.

2. Options for Swordfish Seasonal Closure (ACTION ITEM)

Management of the swordfish segment of the Hawaii-based longline fishery is based on limiting interactions with loggerhead and leatherback sea turtles, and on limits to the number of sets that the fishery may make in a given year. The fishery operates under 'hard' limits on the number of loggerhead (17) and leatherback (16) interactions.

In 2006, the Hawaii-based swordfish fishery reached its 'hard' limit of 17 loggerhead turtle interactions compared to 12 interactions in 2005. There were only 2 leatherback interactions in 2006 compared to 8 interactions in 2005. Oceanographic data suggests that in 2006 the ocean habitat used by loggerheads was reduced, increasing loggerhead densities and the likelihood of interactions with the fishery.

Current regulations provide for a seven day period to shut down the swordfish fishery following reaching of a turtle limit. However, there is a danger that continued fishing might catch additional turtles in this seven day closure period.

The swordfish fishery was closed by emergency rule in 2006. Because this emergency rule is effective for 180 days (and may be extended for another 180 days), it is unlikely to be in effect for the 2007 fishing season. The Council will therefore consider changes to the Pelagics FMP that would allow immediate closure of the fishery when either of the turtle limits are reached.

Subsequently, the Pelagics Plan Team recommended in its May 2006 meeting that the Council also consider methods to smooth the adverse markets effect of these closures. These include consideration of an interim trigger level of turtle takes by the Hawaii swordfish longline fishery that might be used to establish a short term (1-4 week) temporary closures, to prevent the fishery reaching its limits prematurely. The Council may, therefore, take action at this meeting to amend the Pelagics Fishery Management Plan to modify the current swordfish longline fishery closure mechanism. The Council will also consider these measures at its 133rd meeting.

3. NWHI Fishing Regulations (ACTION ITEM)

On January 18, 2006, the Council was informed by the Under Secretary of Commerce for Oceans and Atmosphere, that NOAA is developing alternatives in the Draft Environmental Impact Statement for the proposed Northwestern Hawaiian Islands (NWHI) National Marine Sanctuary that would enable the Council to continue to recommend management measures to limit bottomfish and pelagic fisheries through regulations under the Magnuson-Stevens Fishery Conservation and Management Act (Magnuson-Stevens Act), consistent with the goals and objectives of the proposed sanctuary.

In response to this notice, the Council, relying on guidance provided by NOAA, took initial action at its 131st meeting held March 13-16, 2006 and recommended that limited commercial bottomfish and non-longline pelagic fishing be allowed to continue in Federal waters of the proposed NWHI National Marine under the following permit and catch limits:

1. Limited-entry NWHI bottomfish permits be capped at 14, with 7 permits for the Ho'omalu Zone and 7 permits for the Mau Zone (the two Community Development Program permits for indigenous use to be included in the latter and issued as previously recommended by the Council);

2. The annual bottomfish catch be limited to 381,500 lbs (85% of MSY);

3. Non-longline commercial pelagic fishing permits be capped at three (3); and

4. The annual commercial pelagic catch by the non-longline pelagic fishery and the limited-entry bottomfish fishery be limited to 180,000 lbs.

Subsequently, seven outstanding issues related to these action were identified which require further Council consideration. These issues are: (1) The design of a limited entry program for non-longline pelagic fishing; (2) the designation of a fishing year(s) to be used for the monitoring of the fishing catch limits (3) appropriate compensation for displaced or negatively impacted individuals; (4) the importance and role of the NOAA weather buoy #1 to sanctuary resources as well as to pelagic fishing; (5) the accuracy of the data used by NOAA to calculate the annual pelagic catch limit of 180,000 pounds;(6) whether all fishing for a given species group should be prohibited following closure of a commercial fishery; and (7) the role of the Council in the formulation of NOAA's future NWHI ecosystem management plans. The Council may therefore, consider actions to address these outstanding issues at its 133rd meeting.

Special Accommodations

These meetings are physically accessible to people with disabilities. Requests for sign language interpretation or other auxiliary aids should be directed to Kitty M. Simonds, (808) 522-8220 (voice) or (808)522-8226 (fax), at least 5 days prior to the meeting date.

Authority: 16 U.S.C.1801 et seq.

Dated: May 18, 2006.
Tracey L. Thompson,
Acting Director, Office of Sustainable Fisheries, National Marine Fisheries Service.

[FR Doc. E6-7877 Filed 5-23-06; 8:45 am]

BILLING CODE 3510-22-S